CORPORATION FOR NATIONAL AND COMMUNITY SERVICE

Information Collection; OMB Approval Request

AGENCY: Corporation for National and Community Service.

ACTION: 30-Day Notice.

SUMMARY: The Corporation for National and Community Service (hereinafter the “Corporation”), has submitted the following public information collection request (ICR) entitled “Volunteer Service Hour Tracking Tool”—to the Office of Management and Budget (OMB) for review and approval in accordance with the Paperwork Reduction Act of 1995 (PRA95) (44 U.S.C. section 3506 (c)(2)(A)) A copy of the IRC, with applicable supporting documentation, may be obtained by calling the Corporation for National and Community Service, Ms. Kari Dunn, Executive Director, Presidents Council on Service and Civic Participation, 202-606-6708. Individuals who use a telecommunications device for the deaf (TTY-TDD) may call (202) 606-3472 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from this date of publication in the Federal Register:

(1) By fax to: (202) 395-6974, Atttention: Ms. Katherine Astrich, OMB Desk Officer for the Corporation for National and Community Service.

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of collection of information on those who are to respond, including through the use of appropriate automated, electronic, mechanical, or other technological collection techniques or other forms of information technology, e.g., permitting electronic submissions of responses.

Comments

A 60-day public comment Notice was published in the Federal Register on September 13, 2005. This comment period ended November 11, 2005. No public comments were received from this notice.

Description: The Corporation is seeking approval of its Volunteer Hour Tracking Tool, an electronic Record of Service that provides the general public a way to track their service activities and individually record their volunteer service hours. Since the launch of the Record of Service in January of 2002, the tool has received a high level of public use and is a primary way for individuals to track their eligibility for the President's Volunteer Service Award. Use of the tracking tool is 100 percent electronic in that users establish a user ID and password that automatically creates an account accessible only to that individual user.

Type of Review: Renewal.

Agency: Corporation for National and Community Service.

Title: Volunteer Service Hour Tracking Tool (Record of Service).

OMB Number: 3045-0077.

Agency Number: None.

Affected Public: General Public.

Total Respondents: 100,000.

Frequency: Occasionally.

Average Time Per Response: 3 minutes.

Estimated Total Burden Hours: 5,000 hours.

Total Burden Cost (capital/startup): None.

Total Burden Cost (operating/maintenance): None.

Dated: November 29, 2005.
Sandy Scott,
Director, Acting Director, Office of Public Affairs.

[FR Doc. E5-6884 Filed 12-5-05; 8:45 am]

BILLING CODE 6050-$$-P